DEPARTMENT OF ENERGY

Federal Energy Regulatory Commission

Combined Notice of Filings #1

Take notice that the Commission received the following electric corporate filings:

Docket Numbers: EC19-64-000.

Applicants: Brickyard Hills Project, LLC, Union Electric Company.

Description: Joint Application for Authorization Under Section 203 of the Federal Power Act, et al. of Union Electric Company, et al.

Filed Date: 3/4/19.

Accession Number: 20190304-5065.

Comments Due: 5 p.m. ET 3/25/19.

Take notice that the Commission received the following electric rate filings:

Docket Numbers: ER16-1969-005.

Applicants: Midcontinent Independent System Operator, Inc.

Description: Midcontinent Independent System Operator, Inc. submits compliance filing: Addtl. compliance report filing to address NIPSCO Order EL13-88, et al. to be effective N/A.

Filed Date: 2/28/19.

Accession Number: 20190228-5367.

Comments Due: 5 p.m. ET 3/21/19.

Docket Numbers: ER19-158-001.

Applicants: Ambit Northeast, LLC.

Description: Report Filing: Refund Report Filing to be effective N/A.

Filed Date: 3/1/19.

Accession Number: 20190301-5335.

Comments Due: 5 p.m. ET 3/22/19.

Docket Numbers: ER19-1174-000.

Applicants: Pacific Gas and Electric Company.

Description: Tariff Cancellation: Notice of Termination of PG&E Rate Schedule FERC No. 243 (CCSF Ravenswood TFA) to be effective 5/2/2019.

Filed Date: 3/1/19.

Accession Number: 20190301-5348.

Comments Due: 5 p.m. ET 3/22/19.

Docket Numbers: ER19-1175-000.

Applicants: Northern Indiana Public Service Company.

Description: Annual Informational Attachment O filing of Northern Indiana Public Service Company LLC.

Filed Date: 3/1/19.

Accession Number: 20190301-5361.

Comments Due: 5 p.m. ET 3/22/19.

Docket Numbers: ER19-1176-000.

Applicants: Black Hills Power, Inc.

Description: Annual Informational Attachment H filing of Black Hills Power, Inc.

Filed Date: 3/1/19.

Accession Number: 20190301-5365.

Comments Due: 5 p.m. ET 3/22/19.

Docket Numbers: ER19-1177-000.

Applicants: Southwest Power Pool, Inc.

Description: § 205(d) Rate Filing: 1630R9 The Empire District Electric Company NITSA and NOA to be effective 2/1/2019.

Filed Date: 3/4/19.

Accession Number: 20190304-5019.

Comments Due: 5 p.m. ET 3/25/19.

Docket Numbers: ER19-1178-000.

Applicants: Southwest Power Pool, Inc.

Description: § 205(d) Rate Filing: 3215R5 People's Electric Cooperative NITSA NOA to be effective 2/1/2019.

Filed Date: 3/4/19.

Accession Number: 20190304-5063.

Comments Due: 5 p.m. ET 3/25/19.

Docket Numbers: ER19-1179-000.

Applicants: AES ES Gilbert, LLC.

Description: Baseline eTariff Filing: AES ES Gilbert MBR Tariff Filing to be effective 5/4/2019.

Filed Date: 3/4/19.

Accession Number: 20190304-5066.

Comments Due: 5 p.m. ET 3/25/19.

Docket Numbers: ER19-1180-000.

Applicants: First Choice Energy LLC.

Description: Baseline eTariff Filing: Baseline New to be effective 3/5/2019.

Filed Date: 3/4/19.

Accession Number: 20190304-5081.

Comments Due: 5 p.m. ET 3/25/19.

Docket Numbers: ER19-1181-000.

Applicants: Calpine Mid-Merit II, LLC.

Description: § 205(d) Rate Filing: Certificate of Concurrence for Easement, Shared Facilities & Support Agreement to be effective 3/2/2019.

Filed Date: 3/4/19.

Accession Number: 20190304-5108.

Comments Due: 5 p.m. ET 3/25/19.

Docket Numbers: ER19-1182-000.

Applicants: Alabama Power Company.

Description: § 205(d) Rate Filing: Camellia Solar LGIA Filing to be effective 2/20/2019.

Filed Date: 3/4/19.

Accession Number: 20190304-5153.

Comments Due: 5 p.m. ET 3/25/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 4, 2019.
Kimberly D. Bose,
Secretary.

[FR Doc. 2019-04184 Filed 3-7-19; 8:45 am]

BILLING CODE 6717-01-P